FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning an information collection titled: (1) Application for Consent to Exercise Trust Powers and (2) Appraisal Standards.

DATES: Comments must be submitted on or before December 8, 2003.

ADDRESSES: Interested parties are invited to submit written comments to Leneta Gregorie, Counsel (Consumer and Compliance Unit), (202) 898-3719, Legal Division, Room 3062, Attention: Comments/Legal, Federal Deposit Insurance Corporation, 550 17th Street NW., Washington, DC 20429. All comments should refer to the OMB control number. Comments may be hand-delivered to the guard station at the rear of the 17th Street Building (located on F Street), on business days between 7 a.m. and 5 p.m. [FAX number (202) 898-3838; Internet address: comments@fdic.gov].

A copy of the comments may also be submitted to the OMB desk officer for the FDIC: Joseph F. Lackey, Jr., Office of Information and Regulatory Affairs, Office of Management and Budget, New Executive Office Building, Room 10236, Washington, DC 20503.

FOR FURTHER INFORMATION CONTACT: Leneta G. Gregorie, Counsel (Consumer and Compliance Unit) (202) 898-3719.

SUPPLEMENTARY INFORMATION: Proposal to renew the following currently approved collections of information:

1. Title: Application for Consent to Exercise Trust Powers.

OMB Number: 3064-0025.

Form Number: 6200/09.

Frequency of Response: On occasion.

Affected Public: All financial institutions.

Estimated Number of Respondents: 18.

Estimated Time per Response: 14 applications—8 hours; 4 applications—24 hours.

Estimated Total Annual Burden: 82,150 hours.

General Description of Collection: Insured state nonmember banks submit applications to the FDIC for consent to exercise trust powers. Applications are evaluated by the FDIC to verify qualifications of bank management to administer a trust department and to ensure that the bank's financial condition will not be jeopardized as a result of trust operations.

2. Title: Appraisal Standards.

OMB Number: 3064-0103.

Frequency of Response: On occasion.

Affected Public: All financial institutions.

Estimated Number of Respondents: 5,346.

Estimated Number of Responses: 328,600.

Estimated Time per Response: 15 minutes.

Estimated Annual Burden: 82,150 hours.

General Description of Collection: FIRREA directs the FDIC to prescribe appropriate standards for the performance of real estate appraisals in connection with federally related transactions under its jurisdiction. The information collection activities attributable to 12 CFR part 323 are a direct consequence of the statutory requirements and the legislative intent.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. At the end of the comment period, the comments and recommendations received will be analyzed to determine the extent to which the collection should be modified prior to submission to OMB for review and approval. Comments submitted in response to this notice also will be summarized or included in the FDIC's requests to OMB for renewal of this collection. All comments will become a matter of public record.

Dated in Washington, DC, this 1st day of October, 2003.
Federal Deposit Insurance Corporation.
Robert E. Feldman,
Executive Secretary.

[FR Doc. 03-25375 Filed 10-6-03; 8:45 am]

BILLING CODE 6714-01-P